DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 9, 2020.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on October 1, 2020.
Donald P. Burger,
Chief, General Approvals and Permits Branch.

Application No. | Applicant | Regulation(s) affected | Nature of the special permits thereof
Special Permits Data
21110-N | Norfolk Southern Railway Company | 174.24, 174.26 | To authorize the use of electronic means to maintain and communicate on-board train consist information in lieu of paper documentation when hazardous materials are transported by rail. (mode 2)
21112-N | Best Sanitizers, Inc | 173.154(b)(1) | To authorize the transportation in commerce of certain corrosive materials as limited quantities despite exceeding the quantity limitations specified in 173.154. (mode 1)
21113-N | Spaceflight, Inc | 173.185(a)(1) | To authorize the transportation in commerce of low production lithium batteries contained in spacecraft by cargo-only aircraft. (mode 4)
21114-N | Federal Cartridge Company | 172.203(a), 173.63(b)(2) | To authorize the transportation in commerce of small arms ammunition in a loose and unoriented configuration as a limited quantity. (modes 1, 2, 3, 4, 5)
21118-N | Government Of Thailand, Royal Thai Navy | 172.101(j), 172.204(c)(3), 173.27(b)(2), 173.27(b)(3), 177.848(f) | To authorize the transportation in commerce of explosives by cargo aircraft which is forbidden in the regulations. (mode 4)

[FR Doc. 2020-22365 Filed 10-8-20; 8:45 am]

BILLING CODE 4909-60-P